DEPARTMENT OF ENERGY

Federal Energy Regulatory Commission

Combined Notice of Filings #1

Take notice that the Commission received the following electric corporate filings:

Docket Numbers: EC19-120-000.

Applicants: El Paso Electric Company, Sun Jupiter Holdings LLC.

Description: Response to December 5, 2019 Deficiency Letter of Sun Jupiter Holdings LLC, et al.

Filed Date: 1/6/20.

Accession Number: 20200106-5152.

Comments Due: 5 p.m. ET 1/27/20.

Take notice that the Commission received the following electric rate filings:

Docket Numbers: ER20-89-001.

Applicants: ISO New England Inc.

Description: Tariff Amendment: ISO-NE & NEPOOL; Response to Deficiency Notice re: Fuel Sec. Retention Limit to be effective 12/11/2019.

Filed Date: 1/6/20.

Accession Number: 20200106-5113.

Comments Due: 5 p.m. ET 1/27/20.

Docket Numbers: ER20-742-000.

Applicants: New York State Electric & Gas Corporation, New York Independent System Operator, Inc.

Description: § 205(d) Rate Filing: 205 re: E&P Agreement (SA2501) between NYSEG and Canisteo Wind Energy to be effective 12/31/2019.

Filed Date: 1/7/20.

Accession Number: 20200107-5046.

Comments Due: 5 p.m. ET 1/28/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 7, 2020.
Nathaniel J. Davis, Sr.,
Deputy Secretary.

[FR Doc. 2020-00349 Filed 1-13-20; 8:45 am]

BILLING CODE 6717-01-P